FEDERAL MARITIME COMMISSION

Ocean Transportation Intermediary License Revocations

The Federal Maritime Commission hereby gives notice that the following Ocean Transportation Intermediary licenses have been revoked pursuant to section 19 of the Shipping Act of 1984 (46 U.S.C. app. 1718) and the regulations of the Commission pertaining to the licensing of Ocean Transportation Intermediaries, effective on the corresponding dates shown below:

License Number: 14685N

Name: Air-Sea Transport (Seattle) Ltd.

Address:: 6947 Coal Creek Parkway SE, Suite 206, New Castle, WA 98059.

Date Revoked: May 25, 2001.

Reason: Failed to maintain a valid bond.

License Number: 13140N

Name: American Caribbean Express Shipping Co., Inc. dba A.C.E. Shipping.

Address: Brooklyn Navy Yard, Building 3, 11th FL, Brooklyn, NY 11205.

Date Revoked: June 14, 2001.

Reason: Failed to maintain valid bond.

License Number: 4595F

Name: Claudia C. Mayorga dba Majestic Freight Forwarders Service.

Address: 16310 Los Alimos Street, Granada Hills, CA 91344.

Date Revoked: June 14, 2001.

Reason: Failed to maintain a valid bond.

License Number: 13944N

Name: Directional Transportation Services, Inc. dba DTS, Inc.

Address: 18209 Chisholm Trail, Suite 112, Houston, TX 77060.

Date Revoked: May 31, 2001.

Reason: Failed to maintain a valid bond.

License Number: 11621N and 11621F

Name: Federated Transport Systems, Inc.

Address: 13900 S. Broadway, Los Angeles, CA 90061.

Date Revoked: April 25, 2001 and May 6, 2001.

Reason: Failed to maintain valid bonds.

License Number: 7078N

Name: Gateway Express Co., Inc.

Address: 828 W. Hillcrest Blvd., Los Angeles, CA 90301.

Date Revoked: May 12, 2001.

Reason: Failed to maintain a valid bond.

License Number: 3826F

Name: Graebel/Houston Movers, Inc.

Address: 10901 Tanner Road, Houston, TX 77041.

Date Revoked: June 23, 2001.

Reason: Failed to maintain a valid bond.

License Number: 3453N

Name: International Cargo Services, Inc. dba Beluga Carriers.

Address: 1079 Carriage Hill Parkway, Annapolis, MD 21401.

Date Revoked: May 30, 2001.

Reason: Failed to maintain a valid bond.

License Number: 16324N

Name: International Oceancargo Inc.

Address: 30 Montgomery Street, Suite 210, Jersey City, NJ 07302.

Date Revoked: June 22, 2001.

Reason: Failed to maintain a valid bond.

License Number: 13647N

Name: Lidor Shipping Moving & Storage, Inc.

Address: 380 Bergen Avenue, Kearny, NJ 07032.

Date Revoked: June 14, 2001.

Reason: Failed to maintain a valid bond.

License Number: 13709N

Name: Pac West Trading and Transport, Inc.

Address: 2531 W. 237th, Suite 122, Torrance, CA 90505.

Date Revoked: June 22, 2001.

Reason: Failed to maintain a valid bond.

License Number: 4594F

Name: Paramount Transportation Systems, Inc.

Address: 100 W. Rancho Santa Fe Road, Suite 125, San Marco, CA 92069.

Date Revoked: June 16, 2001.

Reason: Failed to maintain a valid bond.

License Number: 1110F

Name: Phil Thomas & Son International Co.

Address: 1960 Green Trails Drive, Lisle, IL 60532.

Date Revoked: May 29, 2001.

Reason: Failed to maintain a valid bond.

License Number: 1830F

Name: Westwind Overseas Limited.

Address: 633 Broadway, Hastings-on-Hudson, NY 10700.

Date Revoked: June 3, 2001.

Reason: Failed to maintain a valid bond.

Dated: July 20, 2001.
Sandra L. Kusumoto,
Director, Bureau of Consumer Complaints and Licensing.

[FR Doc. 01-18596 Filed 7-25-01; 8:45 am]

BILLING CODE 6730-01-P